DEPARTMENT OF LABOR

Employment and Training Administration

[TA-W-52,773]

Lebanite Corp., Hardboard Division, Now Known as Oregon Panel Products, LLC, Lebanon, OR; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance on October 29, 2003, applicable to workers of Lebanite Corporation, Hardboard Division, Lebanon, Oregon. The notice was published in the Federal Register on November 28, 2003 (68 FR 66879).

At the request of the petitioners, the Department reviewed the certification for workers of the subject facility. The workers are engaged in the production of high density hardboard.

New information shows that operations at the subject facility have been undertaken by a successor company known as Oregon Panel Products, LLC. Workers separated from employment at the subject facility had their wages reported under a separate unemployment insurance (UI) tax account for Oregon Panel Products, LLC.

Accordingly, the Department is amending the certification to properly reflect this matter.

The amended notice applicable to TA-W-52,773 is hereby issued as follows:

All workers of Lebanite Corporation, Hardboard Division, now known as Oregon Panel Products, LLC, Lebanon, Oregon, who became totally or partially separated from employment on or after November 1, 2002, through October 29, 2005, are eligible to apply for adjustment assistance under section 223 of the Trade Act of 1974.

Signed at Washington, DC, this 14th day of June 2004.
Richard Church,
Certifying Officer, Division of Trade Adjustment Assistance.

[FR Doc. 04-14918 Filed 6-30-04; 8:45 am]

BILLING CODE 4510-30-P